ENVIRONMENTAL PROTECTION AGENCY

[FRL-9995-21-OMS]

Privacy Act of 1974; System of Records

AGENCY: Office of Mission Support, Environmental Protection Agency (EPA).

ACTION: Notice of a new system of records.

SUMMARY: The U.S. Environmental Protection Agency's (EPA) Office of the Administrator is giving notice that it proposes to create a new system of records pursuant to the provisions of the Privacy Act of 1974. iComplaints EEO Case Management System (ICOM) is being created to support the Agency's Employment Complaints Resolution program as required by the Equal Employment Opportunity Commission (EEOC) and in compliance with the requirements of the Code of Federal Regulations.

DATES: Persons wishing to comment on this system of records notice must do so by August 19, 2019. New routine uses for this modified system of records will be effective August 19, 2019.

ADDRESSES: Submit your comments, identified by Docket ID No. EPA-HQ-OEI-2018-0219, by one of the following methods:

• www.regulations.gov: Follow the online instructions for submitting comments.

• Email: oei.docket@epa.gov.

• Fax: (202) 566-1752.

• Mail: OEI Docket, Environmental Protection Agency, Mail code: 2822T, 1200 Pennsylvania Ave. NW, Washington, DC 20460.

• Hand Delivery: OEI Docket, EPA/DC, WJC West Building, Room 3334, 1301 Constitution Ave. NW, Washington, DC. Such deliveries are only accepted during the docket's normal hours of operation, and special arrangements should be made for deliveries of boxed information.

Instructions: Direct your comments to Docket ID No. EPA-HQ-OEI-2018-0219. The EPA's policy is that all comments received will be included in the public docket without change and may be made available online at www.regulations.gov, including any personal information provided, unless the comment includes information claimed to be Confidential Business Information (CBI) or other information for which disclosure is restricted by statute. Do not submit information that you consider to be CBI or otherwise protected through www.regulations.gov. The www.regulations.gov website is an “anonymous access” system, which means the EPA will not know your identity or contact information unless you provide it in the body of your comment. If you send an email comment directly to the EPA without going through www.regulations.gov your email address will be automatically captured and included as part of the comment that is placed in the public docket and made available on the internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. For additional information about the EPA's public docket visit the EPA Docket Center homepage at http://www.epa.gov/epahome/dockets.htm.

Docket: All documents in the docket are listed in the www.regulations.gov index. Although listed in the index, some information is not publicly available (e.g., CBI or other information for which disclosure is restricted by statute). Certain other material, such as copyrighted material, will be publicly available only in hard copy. Publicly available docket materials are available either electronically in www.regulations.gov or in hard copy at the OEI Docket, EPA/DC, WJC West Building, Room 3334, 1301 Constitution Ave. NW, Washington, DC. The Public Reading Room is open from 8:30 a.m. to 4:30 p.m., Monday through Friday excluding legal holidays. The telephone number for the Public Reading Room is (202) 566-1744, and the telephone number for the OEI Docket is (202) 566-1745.

FOR FURTHER INFORMATION CONTACT: Renee Clark, (202) 564-7272 or clark.renee@epa.gov.

SUPPLEMENTARY INFORMATION: The U.S. Environmental Protection Agency (EPA) is creating a FedRAMP cloud service-based Privacy Act system of records for the processing of discrimination complaints. iComplaints (ICOM) is an information management and reporting system for internal EPA use. The information collected in the ICOM system is required by the Equal Employment Opportunity Commission (EEOC) under 29 CFR 1614.100 through 1614.110 and in order for the Agency to comply with EEOC Management Directive 110. Complainants provide their personally identifiable information (PII) to the EPA's Office of Civil Rights (OCR) so that they may be contacted in connection with the status of their complaint. ICOM will contain PII.

Only OCR EPA staff at Headquarters and in the Regions and the ICOM system contractors will have access to the database via approved computers logged on thru the EPA LAN network.

SYSTEM NAME AND NUMBER:

iComplaints EEO Case Management System (ICOM) EPA-80

SECURITY CLASSIFICATION:

Unclassified.

SYSTEM LOCATION:

Office of Civil Rights, US EPA, 1200 Pennsylvania Ave. NW, Washington, DC 20004.

SYSTEM MANAGER(S):

Vicki Simons, Director, Office of Civil Rights, US EPA, 1200 Pennsylvania Ave. NW, Washington, DC 20004, (202) 564-7272 or simmons.vicki@epa.gov.

AUTHORITY FOR MAINTENANCE OF THE SYSTEM:

Section 717 of the Civil Rights Act of 1964, as amended, 42 U.S.C. 2000e-16; Executive Order 11748; and Section 501 of the Rehabilitation Act of 1973, as amended by Public Law 99-506, 100 Stat. 1807, October 21, 1986, EEOC Management Directives 110 and 715.

PURPOSE(S) OF THE SYSTEM:

The primary purpose of the ICOM system is to maintain all EPA Equal Employment Opportunity discrimination complaints and subsequent reports, as required by the EEOC, in accordance with Title VII of the Civil Rights Act of 1964 (Title VII), as amended, 42 U.S.C. 2000e et seq., 29 CFR 1614.101 through 1614.110 and EEOC Management Directive 110. The information collected will be used in complaint investigations, as required by the EEOC. The EEOC requires federal agencies to process complaints of discrimination raised by employees or applicants for employment. The documentation received for processing these complaints will contain personally identifiable information (PII) which will be housed in ICOM.

CATEGORIES OF INDIVIDUALS COVERED BY THE SYSTEM:

Employees of the United States Environmental Protection Agency and applicants for employment.

CATEGORIES OF RECORDS IN THE SYSTEM:

This system contains general human resources elements and contact information which includes Employee ID; Name; Home Address; Work Address; Email Address; Telephone Number; Series, Grade; Step, Salary; Target Grade; Management Level; Supervisor Level; Base Pay; Work Schedule; Fair Labor Standards Act; Union,; Position; Title; Sex; Disability; Age; Education Level; Academic Discipline; Veteran Status; Veteran preferences; Citizenship; Date Entered in Current Grade; Month-in-Grade; Service Completion Date; and Years-in-Service; Race; National Origin; Disability Status.

RECORD SOURCE CATEGORIES:

Employee, Supervisor or Applicant.

ROUTINE USES OF RECORDS MAINTAINED IN THE SYSTEM, INCLUDING CATEGORIES OF USERS, AND PURPOSES OF SUCH USES:

The following new or modified routine uses apply to this system because the use of the record is necessary for the efficient conduct of government. The routine uses are related to and compatible with the original purpose for which the information was collected. The last two routine uses are required under OMB M-17-12.

(1) Disclosure to Congressional Offices.

Information may be disclosed to a congressional office from the record of an individual in response to an inquiry from the congressional office made at the request of the individual.

(2) Disclosure to Contractors, Grantees, and Others.

Information may be disclosed to contractors, grantees, consultants, or volunteers performing or working on a contract, service, grant, cooperative agreement, job, or other activity for the Agency and who have a need to have access to the information in the performance of their duties or activities for the Agency. When appropriate, recipients will be required to comply with the requirements of the Privacy Act of 1974 as provided in 5 U.S.C. 552a(m).

(3) Disclosures for Administrative Claims, Complaints and Appeals.

Information from this system of records may be disclosed to an authorized appeal grievance examiner, formal complaints examiner, equal employment opportunity investigator, arbitrator or other person properly engaged in investigation or settlement of an administrative grievance, complaint, claim, or appeal filed by an employee, but only to the extent that the information is relevant and necessary to the proceeding. Agencies that may obtain information under this routine use include, but are not limited to, the Office of Personnel Management, Office of Special Counsel, Merit Systems Protection Board, Federal Labor Relations Authority, Equal Employment Opportunity Commission, and Office of Government Ethics.

(4) Disclosure in Connection with Litigation.

Information from this system of records may be disclosed in connection with litigation or settlement discussions regarding claims by or against the Agency, including public filing with a court, to the extent that disclosure of the information is relevant and necessary to the litigation or discussions and except where court orders are otherwise required under section (b)(11) of the Privacy Act of 1974, 5 U.S.C. 552a(b)(11).

(5) Disclosure to Persons or Entities in Response to an Actual of Suspected Breach of Personally Identifiable Information.

To appropriate agencies, entities, and persons when (1) the Agency suspects or has confirmed that there has been a breach of the system of records, (2) the Agency has determined that as a result of the suspected or confirmed breach there is a risk of harm to individuals, the Agency (including its information systems, programs, and operations), the Federal Government, or national security; and (3) the disclosure made to such agencies, entities, and persons is reasonably necessary to assist in connection with the Agency's efforts to respond to the suspected or confirmed breach or to prevent, minimize, or remedy such harm.

(6) Disclosure to assist another agency in its efforts to respond to a breach.

To another Federal agency or Federal entity, when the Agency determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

The paper records are maintained in locked file cabinets inside of a locked office located in the Office of Civil Rights, 1200 Pennsylvania Ave. NW, Washington, DC 20004. Users access the electronic records via the internet. All of the logic and processing functionality of ICOM resides on one or more central servers, with users accessing ICOM from Web browsers.

POLICIES AND PRACTICES FOR RETRIEVAL OF RECORDS:

These records are retrieved by the individual's/employees' name.

POLICIES AND PRACTICES FOR RETENTION AND DISPOSAL OF RECORDS:

Records stored in this system are subject to EPA records schedule number (EPA 0541).

ADMINISTRATIVE, TECHNICAL, AND PHYSICAL SAFEGUARDS:

• Computer-stored information is protected in accordance with the Agency's security requirements.

• Access to the ICOM is limited to authorized and licensed users only. Access is granted via internet browser using uniquely assigned user identification and password. Only computers from approved IP addresses can access the database where ICOM records are stored. User access is granted in accordance with a role matrix that allows access to only those records necessary for approved Agency employee to conduct the necessary activities associated with processing an EEO complaint.

• The ICOM contractor is subject to the Federal Acquisition Regulations (FAR) Privacy Act clauses in its contract with EPA.

• ICOM servers are housed in a locked facility in a locked room requiring appropriate identification and biometrics to enter.

• Paper ICOM records are stored in locked file cabinets in a locked office. Only OCR staff with the appropriate security clearance and specific job function of processing EEO complaints has keys to access the paper records.

RECORD ACCESS PROCEDURE:

Individuals seeking access to information in this system of records about themselves are required to provide adequate identification (e.g., driver's license, military identification card, employee badge or identification card). Additional identity verification procedures may be required, as warranted. Requests must meet the requirements of EPA regulations that implement the Privacy Act of 1974, at 40 CFR part 16.

CONTESTING RECORDS PROCEDURES:

Requests for correction or amendment must identify the record to be changed and the corrective action sought. Complete EPA Privacy Act procedures are described in EPA's Privacy Act regulations at 40 CFR part 16.

NOTIFICATION PROCEDURE:

Any individual who wants to know whether this system of records contains a record about him or her, who wants access to his or her record, or who wants to contest the contents of a record, should make a written request to the Attn: Agency Privacy Officer, MC 2831T, 1200 Pennsylvania Ave. NW, Washington, DC 20460, privacy@epa.gov.

EXEMPTIONS PROMULGATED FOR THE SYSTEM:

None.

HISTORY:

None.

Dated: June 5, 2019.
Vaughn Noga,
Senior Agency Official for Privacy.

[FR Doc. 2019-14468 Filed 7-17-19; 8:45 am]

BILLING CODE 6560-50-P